DEPARTMENT OF COMMERCE

International Trade Administration

[A-580-809]

Certain Circular Non-Alloy Steel Pipe from Korea; Extension of Time Limit for the Final Results of the Antidumping Duty Administrative Review

AGENCY: Import Administration, International Trade Administration, Department of Commerce.

ACTION: Notice of Extension of Time Limit.

SUMMARY: The Department of Commerce (“the Department”) is extending the time limit for the final results of the administrative review of the antidumping duty order on certain circular non-alloy steel pipe from Korea. The period of review is November 1, 2001, through October 31, 2002. This extension is made pursuant to section 751(a)(3)(A) of the Tariff Act of 1930 (“the Act”).

EFFECTIVE DATE: February 19, 2004.

FOR FURTHER INFORMATION CONTACT: Scott Holland, Office 1, Import Administration, International Trade Administration, U.S. Department of Commerce, 14th Street and Constitution Avenue, NW, Washington DC 20230; at telephone (202) 482-1279.

SUPPLEMENTARY INFORMATION:

Background

On December 8, 2003, the Department published the preliminary results of the administrative review of the antidumping duty order on certain circular non-alloy steel pipe from Korea covering the period November 1, 2001, through October 31, 2002 (68 FR 68331). The final results for this review are currently due no later than March 30, 2004.

Extension of Time Limits for Final Results

Section 751(a)(3)(A) of the Act requires the Department to issue the preliminary results of an administrative review within 245 days after the last day of the anniversary month of an antidumping duty order for which a review is requested and issue the final results within 120 days after the date on which the preliminary results are published. However, if it is not practicable to complete the review within the time period, section 751(a)(3)(A) of the Act allows the Department to extend these deadlines to a maximum of 365 days and 180 days, respectively.

Due to the issues in this case including certain complex price reduction issues, we determine that it is not practicable to complete the final results of this review within the original time limit (i.e., March 30, 2004). Therefore, the Department is extending the time limit for completion of the final results 60 days, or until no later than June 1, 2004, in accordance with section 751(a)(3)(A) of the Act.

We are issuing and publishing this notice in accordance with sections 751(a)(1) and 777(i)(1) of the Act.

Dated: February 12, 2004.
Jeffrey May,
Deputy Assistant Secretary for AD/CVD Enforcement.

[FR Doc. 04-3640 Filed 2-18-04; 8:45 am]

BILLING CODE 3510-DS-S